DEPARTMENT OF ENERGY

Federal Energy Regulatory Commission

[Docket No. ER00-2405-001, et al.]

Cinergy Services, Inc., et al.; Electric Rate and Corporate Regulation Filings

May 26, 2000.

Take notice that the following filings have been made with the Commission:

1. Cinergy Services, Inc.

[Docket No. ER00-2405-001]

Take notice that on May 24, 2000, Cinergy Services, Inc., on behalf of The Cincinnati Gas & Electric Company (CG&E), tendered for filing an amendment to its original filing regarding the Interconnection Agreement Among the City of Lebanon, Ohio, The Cincinnati Gas & Electric Company and Cinergy Services, Inc.

Cinergy states that it has served a copy of its filing upon the City of Lebanon, Ohio and the Public Utilities Commission of Ohio.

Comment date: June 14, 2000, in accordance with Standard Paragraph E at the end of this notice.

2. California Independent System Operator Corporation

[Docket No. ER00-1365-000]

Take notice that on May 23, 2000, the California Independent System Operator Corporation (ISO), tendered for filing a Notice of Implementation, sent to Market Participants and posted on the ISO Home Page on May 19, 2000, which specifies that, effective June 1, 2000, the ISO will implement pre-dispatch of Reliability Must-Run (RMR) Units.

The ISO states that this filing has been served on all parties listed on the official service list in the above-referenced docket.

Comment date: June 13, 2000, in accordance with Standard Paragraph E at the end of this notice.

3. Hardee Power Partners Limited

[Docket No. ER00-2569-000]

Take notice that on May 23, 2000, Hardee Power Partners Limited (HPP), tendered for filing a service agreement with El Paso Merchant Energy, L.P. (El Paso) under HPP's market-based sales tariff.

HPP requests that the service agreement be made effective on May 1, 2000.

Copies of the filing have been served on El Paso and the Florida Public Service Commission.

Comment date: June 13, 2000, in accordance with Standard Paragraph E at the end of this notice.

4. Duquesne Light Company

[Docket No. ER00-2571-000]

Take notice that on May 23, 2000, Duquesne Light Company (Duquesne), tendered for filing, under Duquesne's market-based rate tariff, a long-term service agreement between Duquesne and Orion Power Midwest, L.P. (Orion).

Duquesne reports that service commenced to Orion on April 28, 2000.

Comment date: June 13, 2000, in accordance with Standard Paragraph E at the end of this notice.

5. Western Resources, Inc. and Kansas Gas and Electric Company

[Docket No. ER00-2572-000]

Take notice that on May 23, 2000, Western Resources, Inc. (WR), tendered for filing the 9th Revised Exhibit B, the 7th Revised Exhibit C, and the 7th Revised Exhibit D to its Electric Power, Transmission, and Service Contract with Kansas Electric Power Cooperative Inc. (KEPCo). WR, on behalf of its wholly owned subsidiary the Kansas Gas and Electric Company (KGE), also submitted the 11th Revised Exhibit B, and the 7th Revised Exhibit C to KGE's Electric Power, Transmission, and Service Contract with KEPCo.

Copies of the filing were served upon KEPCo and the Kansas Corporation Commission.

Comment date: June 13, 2000, in accordance with Standard Paragraph E at the end of this notice.

6. Louisville Gas and Electric Company/Kentucky Utilities Company

[Docket No. ER00-2573-000]

Take notice that on May 23, 2000, Louisville Gas and Electric Company (LG&E)/Kentucky Utilities (KU) (hereinafter Companies), tendered for filing executed unilateral transmission service agreement with NewEnergy, Inc., the agreement allows NewEnergy to take non-firm point-to-point transmission service from LG&E/KU.

Comment date: June 13, 2000, in accordance with Standard Paragraph E at the end of this notice.

7. Louisville Gas and Electric Company/Kentucky Utilities Company

[Docket No. ER00-2574-000]

Take notice that on May 23, 2000, Louisville Gas and Electric Company (LG&E)/Kentucky Utilities (KU) (hereinafter Companies), tendered for filing executed unilateral transmission service agreement with NewEnergy, Inc., the agreement allows NewEnergy to take firm point-to-point transmission service from LG&E/KU.

Comment date: June 13, 2000, in accordance with Standard Paragraph E at the end of this notice.

8. Louisville Gas and Electric Company/Kentucky Utilities Company

[Docket No. ER00-2575-000]

Take notice that on May 23, 2000, Louisville Gas and Electric Company (LG&E)/Kentucky Utilities (KU) (hereinafter Companies), tendered for filing executed unilateral transmission service agreement with Amerada Hess Corporation. The agreement allows Amerada Hess to take firm point-to-point transmission service from LG&E/KU.

Comment date: June 13, 2000, in accordance with Standard Paragraph E at the end of this notice.

9. Kincaid Generation L.L.C.

[Docket No. ER00-2577-000]

Take notice that on May 23, 2000, Kincaid Generation L.L.C. (KGL), tendered for filing an agreement for the sale of electric energy and capacity by KGL to Commonwealth Edison Company, dated May 9, 2000.

Comment date: June 13, 2000, in accordance with Standard Paragraph E at the end of this notice.

10. PJM Interconnection, L.L.C.

[Docket No. ER00-2578-000]

Take notice that on May 23, 2000, PJM Interconnection, L.L.C. (PJM), tendered for filing a notice of cancellation for CSW Energy Services, Inc. (CSW ESI), to terminate its membership in PJM, to cancel certain service agreements between PJM and CSW ESI, and to remove it as a signatory to the Reliability Assurance Agreement Among Load Serving Entities in the PJM Control Area (RAA). PJM also is filing a revised Schedule 17 to the RAA removing CSW ESI from the list of signatories to the RAA.

PJM states that it served a copy of its filing on all of the members of PJM and the signatories to the RAA, including CSW Energy Services Inc., and each of the state electric regulatory commissions within the PJM control area.

Comment date: June 13, 2000, in accordance with Standard Paragraph E at the end of this notice.

11. Northern States Power Company (Minnesota Company) and Northern States Power Company (Wisconsin Company)

[Docket No. ER00-2579-000]

Take notice that on May 24, 2000, Northern States Power Company (Minnesota) and Northern States Power Company (Wisconsin) (collectively known as NSP) tendered for filing a Short-Term Market-Based Electric Service Agreement between NSP and Wisconsin Electric Power Company (Customer).

NSP requests that this Short-Term Market-Based Electric Service Agreement be made effective on April 26, 2000.

Comment date: June 14, 2000, in accordance with Standard Paragraph E at the end of this notice.

12. Tucson Electric Power Company

[Docket No. ER00-2580-000]

Take notice that on May 24, 2000, Tucson Electric Power Company tendered for filing a Notice of Cancellation of its Rate Schedule FERC No. 38 (Plains Electric Generation and Transmission Cooperative, Inc. and Tucson Electric Power Company Economy Energy Interchange Agreement, dated May 7, 1980).

Comment date: June 14, 2000, in accordance with Standard Paragraph E at the end of this notice.

13. California Independent System Operator Corporation

[Docket No. ER00-2581-000]

Take notice that on May 24, 2000, the California Independent System Operator Corporation (ISO), tendered for filing a Participating Load Agreement (PLA) between the ISO and NewEnergy California, L.L.C., (NewEnergy). The ISO states that this PLA is designed to set forth the terms and conditions that govern NewEnergy's provision of Ancillary Services. The PLA is part of a trial program for the summer of 2000 designed to increase participation of Load resources in the ISO's markets.

The ISO requests that the PLA be made effective as of June 15, 2000.

The ISO states that this filing has been served on NewEnergy California, L.L.C. and the California Public Utilities Commission.

Comment date: June 14, 2000, in accordance with Standard Paragraph E at the end of this notice.

14. California Independent System Operator Corporation

[Docket No. ER00-2582-000]

Take notice that on May 24, 2000, the California Independent System Operator Corporation (ISO), tendered for filing a Participating Load Agreement (PLA) between the ISO and New West Energy (New West). The ISO states that this PLA is designed to set forth the terms and conditions that govern New West's provision of Ancillary Services. The PLA is part of a trial program for the summer of 2000 designed to increase participation of Load resources in the ISO's markets.

The ISO requests that the PLA be made effective as of June 15, 2000.

The ISO states that this filing has been served on New West Energy and the California Public Utilities Commission.

Comment date: June 14, 2000, in accordance with Standard Paragraph E at the end of this notice.

15. California Independent System Operator Corporation

[Docket No. ER00-2583-000]

Take notice that on May 24, 2000, the California Independent System Operator Corporation (ISO), tendered for filing a Participating Load Agreement (PLA) between the ISO and Ancillary Service Coalition (ASC). The ISO states that this PLA is designed to set forth the terms and conditions that govern ASC's provision of Ancillary Services. The PLA is part of a trial program for the summer of 2000 designed to increase participation of Load resources in the ISO's markets.

The ISO requests that the PLA be made effective as of June 15, 2000.

The ISO states that this filing has been served on Ancillary Service Coalition and the California Public Utilities Commission.

Comment date: June 14, 2000, in accordance with Standard Paragraph E at the end of this notice.

16. Jersey Central Power & Light Company

[Docket No. ER00-2584-000]

Take notice that on May 24, 2000, Jersey Central Power & Light Company (doing business as and referred to as GPU Energy), tendered for filing a Generation Facility Interconnection Agreement between GPU Energy and Middlesex Generating Co., L.L.C.

Comment date: June 14, 2000, in accordance with Standard Paragraph E at the end of this notice.

17. Orion Power MidWest, L.P.

[Docket No. ER00-2585-000]

Take notice that on May 24, 2000 Orion Power MidWest, L.P. (Orion Power MidWest), tendered for filing with the Federal Energy Regulatory Commission a long-term Energy Agency and Marketing Agreement with Duquesne Light Company for the sale of energy under Orion Power MidWest's market-based rate tariff, FERC Electric Rate Tariff, Volume No. 1.

Comment date: June 14, 2000, in accordance with Standard Paragraph E at the end of this notice.

18. Northern Indiana Public Service Company

[Docket No. ER00-2586-000]

Take notice that on May 24, 2000, Northern Indiana Public Service Company tendered for filing an executed Standard Transmission Service Agreement for Non-Firm Point-to-Point Transmission Service between Northern Indiana Public Service Company and NewEnergy, Inc., (NewEnergy).

Under the Transmission Service Agreement, Northern Indiana Public Service Company will provide Point-to-Point Transmission Service to NewEnergy pursuant to the Transmission Service Tariff filed by Northern Indiana Public Service Company in Docket No. OA96-47-000 and allowed to become effective by the Commission.

Northern Indiana Public Service Company has requested that the Service Agreement be allowed to become effective as of May 25, 2000.

Copies of this filing have been sent to NewEnergy, Inc., the Indiana Utility Regulatory Commission, and the Indiana Office of Utility Consumer Counselor.

Comment date: June 14, 2000, in accordance with Standard Paragraph E at the end of this notice.

19. Northern Indiana Public Service Company

[Docket No. ER00-2587-000]

Take notice that on May 24, 2000, Northern Indiana Public Service Company tendered for filing an executed Standard Transmission Service Agreement for Non-Firm Point-to-Point Transmission Service between Northern Indiana Public Service Company and Public Service Company of Colorado (Public Service).

Under the Transmission Service Agreement, Northern Indiana Public Service Company will provide Point-to-Point Transmission Service to Public Service pursuant to the Transmission Service Tariff filed by Northern Indiana Public Service Company in Docket No. OA96-47-000 and allowed to become effective by the Commission.

Northern Indiana Public Service Company has requested that the Service Agreement be allowed to become effective as of May 25, 2000.

Copies of this filing have been sent to Public Service Company of Colorado, the Indiana Utility Regulatory Commission, and the Indiana Office of Utility Consumer Counselor.

Comment date: June 14, 2000, in accordance with Standard Paragraph E at the end of this notice.

20. Northern Indiana Public Service Company

[Docket No. ER00-2588-000]

Take notice that on May 24, 2000, Northern Indiana Public Service Company tendered for filing an executed Standard Transmission Service Agreement for Non-Firm Point-to-Point Transmission Service between Northern Indiana Public Service Company and Allegheny Energy Supply Company, LLC (Allegheny).

Under the Transmission Service Agreement, Northern Indiana Public Service Company will provide Point-to-Point Transmission Service to Allegheny pursuant to the Transmission Service Tariff filed by Northern Indiana Public Service Company in Docket No. OA96-47-000 and allowed to become effective by the Commission.

Northern Indiana Public Service Company has requested that the Service Agreement be allowed to become effective as of May 25, 2000.

Copies of this filing have been sent to Allegheny Energy Supply Company, LLC, the Indiana Utility Regulatory Commission, and the Indiana Office of Utility Consumer Counselor.

Comment date: June 14, 2000, in accordance with Standard Paragraph E at the end of this notice.

21. Duke Energy Corporation

[Docket No. ER00-2589-000]

Take notice that on May 24, 2000, Duke Energy Corporation (Duke), tendered for filing a Service Agreement with North Carolina Municipal Power Agency Number 1 for Transmission Service under Duke's Open Access Transmission Tariff.

Duke requests that the proposed Service Agreement be permitted to become effective on May 1, 2000.

Duke states that this filing is in accordance with Part 35 of the Commission's Regulations and a copy has been served on the North Carolina Utilities Commission.

Comment date: June 14, 2000, in accordance with Standard Paragraph E at the end of this notice.

22. Orion Power MidWest, L.P.

[Docket No. ER00-2590-000]

Take notice that on May 24, 2000, Orion Power MidWest, L.P. (Orion Power MidWest), tendered for filing with the Federal Energy Regulatory Commission a long-term Power Sales Agreement with Strategic Energy L.L.C., for the sale of energy under Orion Power MidWest's market-based rate tariff, FERC Electric Rate Tariff, Volume No. 1.

Comment date: June 14, 2000, in accordance with Standard Paragraph E at the end of this notice.

23. The Montana Power Company

[Docket No. ER00-2591-000]

Take notice that on May 24, 2000, The Montana Power Company (Montana), tendered for filing with the Federal Energy Regulatory Commission an executed Reliability Management System Agreement with PPL Montana, LLC.

A copy of the filing was served upon PPL Montana, LLC.

Comment date: June 14, 2000, in accordance with Standard Paragraph E at the end of this notice.

24. Milford Power Limited Partnership

[Docket No. ER00-2592-000]

Take notice that on May 23, 2000, Milford Power Limited Partnership tendered for filing pursuant to Rules 205 and 207 of the Commission's Rules of Practice and Procedure (18 CFR 385.205 and 385.207) a petition seeking a waiver of certain regulations of the Commission and an order accepting its Revised FERC Electric Tariff No.1 for filing, to be effective on the date of the Commission's order on such petition.

Revised FERC Electric Tariff No.1 provides for the sale of capacity and energy at agreed prices to any wholesale customer.

Comment date: June 13, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-13913 Filed 6-2-00; 8:45 am]

BILLING CODE 6717-01-P